SURFACE TRANSPORTATION BOARD

[Docket No. FD 36122]

The Athens Line, LLC—Acquisition and Operation Exemption—Rail Line of Norfolk Southern Railway Company and Central of Georgia Railroad Company

The Athens Line, LLC (Athens), a Class III rail carrier, has filed a verified notice of exemption under 49 CFR 1150.41 to acquire from Central of Georgia Railroad Company (CGA) and CGA's parent company, Norfolk Southern Railway Company (NSR), and to operate, approximately 38 miles of adjoining rail lines pursuant to a purchase and sale agreement. The lines extend (1) between CGA milepost F-75.5 at Madison, Ga., and CGA milepost F-106.3 at Athens, Ga.,¹ and (2) between NSR milepost NE-39.1 at Athens and NSR milepost NE-32.0 at a point designated as Junior State, Ga.²

¹ CGA was authorized to discontinue service over a 16-mile portion of the line between milepost F-75.5 near Madison and milepost F-91.5 at Bishop, Ga., in 1988. Cent. of Ga. R.R.—Discontinuance Exemption—Operations Between Madison & Bishop, Ga., AB 290 (Sub-No. 37X) (ICC served Nov. 3, 1988). Athens states that it intends to rehabilitate the line between those mileposts, and that if required, it will seek authority to reactivate service over such tracks.

² Athens was authorized to acquire by lease and to operate the lines in 2001, see The Athens Lines, LLC—Lease & Operation Exemption—Norfolk Southern Railway, FD 34118 (STB served Dec. 27, 2001).

Athens states that the proposed transaction does not involve any provision or agreement that may limit future interchange commitments. Athens certifies that its projected annual revenues would not exceed those that would qualify it as a Class III rail carrier and that its projected annual revenues will not exceed $5 million.

The transaction may be consummated on or after June 30, 2017, the effective date of the exemption (30 days after the verified notice was filed).

If the verified notice contains false or misleading information, the exemption is void ab initio. Petitions to revoke the exemption under 49 U.S.C. 10502(d) may be filed at any time. The filing of a petition to revoke will not automatically stay the effectiveness of the exemption. Petitions to stay must be filed no later than June 23, 2017 (at least seven days before the exemption becomes effective).

An original and 10 copies of all pleadings, referring to Docket No. FD 36122, must be filed with the Surface Transportation Board, 395 E Street SW., Washington, DC 20423-0001. In addition, a copy of each pleading must be served on applicant's representative, Richard H. Streeter, Law Office of Richard H. Streeter, 5255 Partridge Lane NW., Washington, DC 20016.

According to Athens, this action is categorically excluded from environmental review under 49 CFR 1105.6(c).

Board decisions and notices are available on our Web site at WWW.STB.GOV.

Decided: June 13, 2017.
By the Board, Rachel D. Campbell, Director, Office of Proceedings.
Raina S. Contee,
Clearance Clerk.

[FR Doc. 2017-12560 Filed 6-15-17; 8:45 am]

BILLING CODE 4915-01-P